DEPARTMENT OF TRANSPORTATION

Federal Aviation Administration

14 CFR Part 39

[Docket No. FAA-2014-0120; Directorate Identifier 2013-NM-056-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model CL-215-6B11 (CL-215T Variant), and CL-215-6B11 (CL-415 Variant) airplanes. This proposed AD was prompted by several reports indicating that shorter nacelle strut bushings were inadvertently installed on certain airplanes. This proposed AD would require a general visual inspection of the left and right nacelle upper strut bushings; installation of the bolts and preload indicating (PLI) washers, if necessary; and replacement of the bushing or repair of the bushing installation, if necessary. We are proposing this AD to detect and correct inadequate nacelle strut bushings, which provide insufficient engagement in the strut fork end, and could deform under the bearing load and lead to the failure of the joint.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Ricardo Garcia, Aerospace Engineer, Airframe and Mechanical Systems Branch, ANE-171, FAA, New York Aircraft Certification Office, 1600 Stewart Avenue, Suite 410, Westbury, NY 11590; phone (516) 228-7331; fax (516) 794-5531.

SUPPLEMENTARY INFORMATION:

Comments Invited

We invite you to send any written relevant data, views, or arguments about this proposed AD. Send your comments to an address listed under the ADDRESSES section. Include “Docket No. FAA-2014-0120; Directorate Identifier 2013-NM-056-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation, which is the aviation authority for Canada, has issued Canadian Airworthiness Directive CF-2013-06, dated February 27, 2013 (referred to after this as the Mandatory Continuing Airworthiness Information, or “the MCAI”), to correct an unsafe condition for the specified products. The MCAI states:

It was discovered in several cases that nacelle strut bushings with part number (P/N), 85410265-105, have been inadvertently installed in lieu of P/N 85410265-103. Bushing P/N 85410265-105 is shorter than bushing P/N 85410265-103 and provides for less engagement in the strut fork end, P/N 215T16534-12/-13, which may deform under the bearing load leading to the failure of the joint.

The actions for this proposed AD include a general visual inspection of the left and right nacelle upper strut bushings; installation of the bolts and PLI washers, if necessary; and replacement of the bushing or repair of the bushing installation, if necessary. You may examine the MCAI in the AD docket on the Internet at http://www.regulations.gov by searching for and locating it in Docket No. FAA-2014-0120.

Relevant Service Information

Bombardier, Inc. has issued Alert Service Bulletin 215-A3173, dated April 11, 2012, and Alert Service Bulletin 215-A4453, dated April 10, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 5 airplanes of U.S. registry.

We estimate the following costs to comply with this proposed AD:

Estimated Costs
Action | Labor cost | Parts cost | Cost per product | Cost on U.S. operators
Inspection | 4 work-hours × $85 per hour = $340 | $0 | $340 | $1,700

We estimate the following costs to do any necessary repairs or replacements that would be required based on the results of the proposed inspection. We have no way of determining the number of aircraft that might need these repairs or replacements:

On-Condition Costs
Action | Labor cost | Parts cost | Cost per product
Replacement | 4 work-hours × $85 per hour = $340 | $0 | $340
Repair | 4 work-hours × $85 per hour = $340 | 0 | 340

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2014-0120; Directorate Identifier 2013-NM-056-AD.

(a) Comments Due Date

We must receive comments by April 14, 2014.

(b) Affected ADs

None.

(c) Applicability

This AD applies to the Bombardier, Inc. airplanes, certificated in any category, identified in paragraphs (c)(1) and (c)(2) of this AD.

(1) Model CL-215-6B11 (CL-215T Variant) airplanes, serial numbers 1056, 1057, 1061, 1080, 1109, 1113, 1114, 1115, 1116, 1117, 1118, 1119, 1120, 1121, 1122, and 1125.

(2) Model CL-215-6B11 (CL-415 Variant) airplanes, serial numbers 2001 through 2067 inclusive.

(d) Subject

Air Transport Association (ATA) of America Code 54, Nacelles/Pylons.

(e) Reason

This AD was prompted by several reports indicating that shorter nacelle strut bushings were inadvertently installed on certain airplanes. We are issuing this AD to detect and correct inadequate nacelle strut bushings, which provide insufficient engagement in the strut fork end, and could deform under the bearing load and lead to the failure of the joint.

(f) Compliance

Comply with this AD within the compliance times specified, unless already done.

(g) Inspection of the Bushing

Within 3 months after the effective date of this AD: Do a general visual inspection to determine the part number of the left and right nacelle upper strut bushings, in accordance with the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes).

(1) If any bushing with part number (P/N) 85410265-103 is installed: Before further flight, install the bolts and preload indicating (PLI) washers, in accordance with paragraph 2.G. of the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes).

(2) If any bushing with P/N 85410265-105 is installed in either the left or right nacelle: Do the actions in paragraph (h) of this AD.

(h) Replacement or Repair of the Bushing

If any bushing with P/N 85410265-105 is found installed during the inspection required by paragraph (g) of this AD: Before further flight, do the actions specified in paragraph (h)(1) or (h)(2) of this AD.

(1) Replace the bushing in accordance with paragraph 2.E. of the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes); and continue with the installation of bolt and PLI washer, in accordance with paragraph 2.G. of the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes).

(2) Repair the bushing in accordance with paragraph 2.F. of the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes); and continue with the installation of bolt and PLI washer, in accordance with paragraph 2.G. of the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes).

(i) Replacement of Repaired Bushing

For any bushing that has been repaired as specified in paragraph (h)(2) of this AD: Within 5,000 flight hours after accomplishing the repair or at the next engine removal, whichever occurs first, replace the bushing with P/N 85410265-103, in accordance with paragraph 2.E. of the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes); and continue with the installation of bolt and PLI washer, in accordance with paragraph 2.G. of the Accomplishment Instructions of Bombardier Alert Service Bulletin 215-A3173, dated April 11, 2012 (for Model CL-215-6B11 (CL-215T Variant) airplanes); or Bombardier Alert Service Bulletin 215-A4453, dated April 10, 2012 (for Model CL-215-6B11 (CL-415 Variant) airplanes).

(j) No Further Action Required

(1) For airplanes on which a general visual inspection specified in paragraph (g) of this AD is done and it is determined that the nacelle strut bushings having P/N 85410265-103 are installed in the airplane: No further actions are required by this AD, provided the actions specified in paragraph (g)(1) of this AD have been done.

(2) For airplanes on which nacelle strut bushings having P/N 85410265-103 are installed as specified in paragraph (h)(1) or (i) of this AD, no further actions are required by this AD.

(k) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). For a repair method to be approved, the repair approval must specifically refer to this AD. You are required to ensure the product is airworthy before it is returned to service.

(l) Related Information

(1) Refer to Mandatory Continuing Airworthiness Information (MCAI) Canadian Airworthiness Directive CF-2013-06, dated February 27, 2013, for related information. This MCAI may be found in the AD docket on the Internet at http://www.regulations.gov by searching for and locating it in Docket No. FAA-2014-0120.

(2) For service information identified in this AD, contact Bombardier, Inc., 400 Côte-Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA. For information on the availability of this material at the FAA, call 425-227-1221.

Issued in Renton, Washington, on February 14, 2014.
Jeffrey E. Duven,
Manager, Transport Airplane Directorate, Aircraft Certification Service.

[FR Doc. 2014-04260 Filed 2-26-14; 8:45 am]

BILLING CODE 4910-13-P